DEPARTMENT OF HOMELAND SECURITY

U.S. Customs and Border Protection

Transition of the Electronic Certification System (eCERT) to an Updated Version (eCERT 2.0)

AGENCY: U.S. Customs and Border Protection, Department of Homeland Security.

ACTION: General notice.

SUMMARY: This document announces the transition of the Electronic Certification System (eCERT) to an updated version, eCERT 2.0, which will become the sole method for participating in the eCERT process. The updated version includes three new features that will enhance the existing system by implementing additional validations that verify the authorized use of quota certificates. The use of eCERT 2.0 will allow for the decrementing of quota certificates to prevent those certificates from being overused. Participating countries will have enhanced querying capabilities to query and track actual certificate usage. Additionally, importers will be able to query their usage of the quota certificates via the Automated Broker Interface. In order to participate in eCERT 2.0, importers must provide the participating country with the Importer of Record (IOR) number in advance of filing an entry, and, in turn, the participating country must submit the IOR number as an additional data element of information within the transmission for eCERT 2.0. The transition to eCERT 2.0 will not change the tariff-rate quota or tariff preference level filing process or requirements. Importers will continue to provide the export certificate or certificate of eligibility numbers from the participating countries in the same manner as when currently filing entry summaries with U.S. Customs and Border Protection. The format of the export certificate and certificate of eligibility numbers will remain the same for the corresponding eCERT transmissions.

DATES: The transition to eCERT 2.0 will be operational as of September 25, 2022.

FOR FURTHER INFORMATION CONTACT: Julia Peterson, Chief, Quota and Agriculture Branch, Trade Policy and Programs, Office of Trade, (202) 384-8905, or HQQUOTA@cbp.dhs.gov.

SUPPLEMENTARY INFORMATION:

Background

The Electronic Certification System (eCERT) is a system developed by U.S. Customs and Border Protection (CBP) that uses electronic data transmissions of information normally associated with a required export document, such as a license or certificate, to facilitate the administration of quotas and ensure that the proper restraint levels are charged without being exceeded. Foreign countries participating in eCERT transmit information directly or via a global network service provider to CBP's automated electronic system for commercial trade processing, the Automated Commercial Environment (ACE).

Specific data elements are transmitted to CBP by the importer of record (or an authorized customs broker) when filing an entry summary with CBP, and those data elements must match eCERT data from the foreign country before an importer may claim any applicable in-quota tariff rate of duty or the preferential duty rate under a tariff preference level (TPL). An importer may claim an in-quota tariff rate or preferential duty rate when merchandise is entered, or withdrawn from warehouse, for consumption, only if the information transmitted by the importer matches the information transmitted by the foreign government. If there is no transmission by the foreign government upon entry, an importer must claim the higher over-quota tariff rate or most-favored nation (MFN) rate of duty.¹ An importer may subsequently claim the in-quota tariff rate ² or preferential duty rate ³ under certain limited conditions.

¹ If there is no associated foreign government eCERT transmission available upon entry of the merchandise or filing of the entry summary, an importer may enter the merchandise for consumption subject to the over-quota tariff rate or the MFN rate of duty or opt not to enter the merchandise for consumption at that time (e.g., transfer the merchandise to a Customs bonded warehouse or foreign trade zone or export or destroy the merchandise).

² If an importer enters the merchandise for consumption subject to the over-quota tariff rate and the associated foreign government eCERT transmission becomes available afterwards, an importer may claim the in-quota rate of duty by filing a post summary correction (before liquidation) or a protest under 19 CFR part 174 (after liquidation). In either event, the in-quota rate of duty is allowable only if there are still quota amounts available within the original quota period.

³ An importer has the opportunity to make a post importation claim for a TPL by requesting a refund of any excess customs duties at any time within one year after the date of importation of the goods. However, the preferential duty rate is allowable only if there are still amounts available within the original TPL period.

Currently, Australia, Uruguay, New Zealand, and Argentina are approved for the use of eCERT for transmitting export certificates for certain beef entries subject to the tariff-rate quota.⁴ Additionally, Mexico is approved for the use of eCERT for transmitting certificates of eligibility for certain textile and apparel goods that are eligible for preferential treatment under a TPL.⁵

⁴ See the published general notices for the approved use of eCERT for Australia (75 FR 81632 (December 28, 2010)), Uruguay (86 FR 47127 (August 23, 2021)), New Zealand (87 FR 1771 (January 12, 2022)), and Argentina (87 FR 2172 (January 13, 2022)) for certain beef imports subject to a tariff-rate quota.

⁵ See the published general notice for the approved use of eCERT for Mexico for certain textile and apparel goods that are eligible for preferential treatment under a TPL (FR 86 FR 54225 (September 30, 2021)).

This document announces that the transition of eCERT to eCERT 2.0 will be operational as of September 25, 2022, and eCERT 2.0 will become the sole method for participating in the eCERT process at that time. As of that date, the below-mentioned enhancements will become operational for the transmission of export certificates for certain beef entries from Australia, Uruguay, New Zealand and Argentina, and for the transmission of certificates of eligibility for certain textile and apparel goods from Mexico.

The updated system will include three new features that will enhance the existing eCERT system by implementing additional validations that verify the authorized use of quota certificates. One of the enhancements will allow the eCERT system to decrement the usage of quota certificates and prevent those certificates from being overused, and thus, provide CBP with better and more easily available awareness of the certificate usage. Secondly, participating countries will have enhanced querying capabilities to query and track actual certificate usage in eCERT 2.0. The third enhancement will be a new Automated Broker Interface (ABI) query which will enable importers to query their usage of quota certificates.⁶ Importers are expected to exercise reasonable care pursuant to 19 U.S.C. 1484 when filing entries and tracking their usage of quota certificates and the availability of a new query capability in eCERT 2.0 does not relieve importers of this responsibility.

⁶ Use of this enhancement will be facilitated through a new CBP and Trade Automated Interface Requirements (CATAIR) message, Certificate Query, which may be found in the Implementation Guide on CBP's website at: https://www.cbp.gov/document/guides/certificate-query-catair-ecert-20.

In order to participate in eCERT 2.0, importers must provide the participating country with their Importer of Record (IOR) number in advance of filing an entry, and, in turn, the participating country will submit the IOR number as part of the eCERT transmission to CBP.⁷ The participating country will submit the IOR number as an additional data element of information within the single transmission message to eCERT 2.0.

⁷ Pursuant to 19 CFR 142.3(a)(1), importers provide the IOR numbers to CBP on CBP Form 3461 upon entry.

At this time, CBP recommends that importers share the IOR numbers with their exporters in advance of September 25, 2022, to allow for participating countries to test the updated system with actual IOR numbers and avoid rejection of the transmission due to missing IOR numbers once eCERT 2.0 is deployed.⁸ In general, importers will need to provide the IOR numbers only once to the participating exporter or country (which should be no later than 30 days in advance of filing an entry), but importers should ensure that the exporter has the IOR number on file for future transmissions.

⁸ As of July 7, 2022, CBP began testing eCERT 2.0 with the participating countries using test data. Early submission of IOR numbers by importers will help facilitate the testing process.

The transition to eCERT 2.0 will not change the tariff-rate quota or TPL filing process or requirements. Importers will continue to provide the export certificate or certificate of eligibility numbers from the participating countries in the same manner as when currently filing entry summaries with CBP. The format of the export certificate and certificate of eligibility numbers will remain the same for the corresponding eCERT transmissions.

Dated: August 18, 2022.
AnnMarie R. Highsmith,
Executive Assistant Commissioner, Office of Trade.

[FR Doc. 2022-18214 Filed 8-23-22; 8:45 am]

BILLING CODE P